DEPARTMENT OF STATE

[Public Notice 8272]

State Department Advisory Committee on Private International Law; Closed Meeting

In accordance with section 10(a) of the Federal Advisory Committee Act, 5 U.S.C. App § 10(a), the Department of State announces a meeting of the full Advisory Committee on Private International Law (ACPIL) to take place on May 13, 2013, at the Department of State, Washington, DC.

Pursuant to section 10(d) of the Federal Advisory Committee Act, 5 U.S.C. App § 10(d), and 5 U.S.C. 552b(c)(9)(B), it has been determined that this ACPIL meeting will be closed to the public because the ACPIL will be discussing matters the public disclosure of which would be likely to significantly frustrate Department negotiations in an upcoming international forum.

For more information, contact Tricia Smeltzer at 202-776-8423 or smeltzertk@state.gov, or Niesha Toms at 202-776-8420, tomsnn@state.gov.

Dated: April 5, 2013.
Michael Coffee,
Attorney-Adviser, Private International Law.

[FR Doc. 2013-08663 Filed 4-11-13; 8:45 am]

BILLING CODE 4710-08-P